DEPARTMENT OF ENERGY

Fusion Energy Sciences Advisory Committee

AGENCY: Office of Science, Department of Energy.

ACTION: Notice of Open Meeting: correction.

SUMMARY: This notice announces a meeting of the Fusion Energy Sciences Advisory Committee. The Federal Advisory Committee Act requires that public notice of these meetings be announced in the Federal Register. This document makes a correction to that notice.

FOR FURTHER INFORMATION CONTACT: Dr. Samuel J. Barish, Acting Designated Federal Officer, Office of Fusion Energy Sciences (FES); U.S. Department of Energy; Office of Science; 1000 Independence Avenue SW; Washington, DC 20585; Telephone: (301) 903-2917.

Corrections

In the Federal Register of February 24, 2020, in FR Doc. 2020-03614, on page 10426, please make the following correction:

In that notice under DATES, second column, second paragraph, the meeting dates have changed. The original dates were March 16, 2020; 8:30 a.m. to 5:00 p.m. and March 17, 2020; 8:30 a.m. to 12:00 noon. The new date is March 16, 2020; 10:00 a.m. to 6:00 p.m.

In that notice under ADDRESSES, second column, fourth paragraph, the meeting address has been changed. The original address was Hilton Washington DC/Rockville Hotel, 1750 Rockville Pike, Rockville, Maryland 20852. Note: Remote attendance only of the FESAC meeting will be available via Zoom. Instructions will be posted on the FESAC website: https://science.osti.gov/fes/fesac/Meetings and can also be obtained by contacting Dr. Barish by email: sam.barish@science.doe.gov or by phone (301) 903-2917.

Reason for Correction: The change in venue is due to travel concerns associated with the coronavirus outbreak which caused the change from an in-person FESAC Meeting to be held only remotely via Zoom.

Signed in Washington, DC on March 11, 2020.
LaTanya Butler,
Deputy Committee Management Officer.

[FR Doc. 2020-05291 Filed 3-13-20; 8:45 am]

BILLING CODE 6450-01-P